DEPARTMENT OF HOMELAND SECURITY

Coast Guard

33 CFR Part 117

[CGD01-06-026]

Drawbridge Operation Regulations; Raritan River, Arthur Kill and Their Tributaries, NJ

AGENCY: Coast Guard, DHS.

ACTION: Notice of temporary deviation from regulations.

SUMMARY: The Commander, First Coast Guard District, has issued a temporary deviation from the regulation governing the operation of the AK Railroad Bridge, at mile 11.6, across Arthur Kill, between Elizabeth, New Jersey, and Staten Island, New York. This deviation allows the bridge to remain in the closed position from 10 a.m. to 2 p.m. on April 15, 2006, from 10:30 a.m. to 2:30 p.m. on April 22, 2006, and from 10:42 a.m. to 2:44 p.m. on April 29, 2006. This deviation is necessary in order to facilitate railroad track maintenance.

DATES: This deviation is effective from April 15, 2006 through April 29, 2006.

ADDRESSES: Materials referred to in this document are available for inspection or copying at Commander (dpb) First Coast Guard District, 408 Atlantic Avenue, Boston, Massachusetts 02110, between 7 a.m. and 3 p.m., Monday through Friday, except Federal holidays. The telephone number is (617) 223-8364. The Commander (dpb), First Coast Guard District, maintains the public docket for this temporary deviation.

FOR FURTHER INFORMATION CONTACT: Joe Arca, Project Officer, First Coast Guard District, at (212) 668-7069.

SUPPLEMENTARY INFORMATION: The AK Railroad Bridge has a vertical clearance in the closed position of 31 feet at mean high water and 35 feet at mean low water. The existing drawbridge operating regulations are listed at 33 CFR 117.747.

The owner of the bridge, New York Economic Development Corporation, requested a temporary deviation from the drawbridge operating regulations to facilitate the replacement of railroad ties on the bridge lift span. The bridge will not be able to open for vessel traffic during the performance of this vital maintenance. The Coast Guard is approving this deviation to assure the continued safe operation of the bridge and to prevent an unscheduled closure due to component failure that might occur in the absence of these repairs.

Under this temporary deviation the AK Railroad Bridge may remain in the closed position as follows:

On April 15, 2006, 10 a.m. to 2 p.m.

On April 22, 2006, 10:30 a.m. to 2:30 p.m.

On April 29, 2006, 10:42 a.m. to 2:44 p.m.

The bridge shall open on signal during any of the bridge closure periods upon a 30-minute notice from the U.S. Coast Guard.

In accordance with 33 CFR 117.35(c), this work will be performed with all due speed in order to return the bridge to normal operation as soon as possible. This deviation from the operating regulations is authorized under 33 CFR 117.35.

Dated: March 31, 2006.
Gary Kassof,
Bridge Program Manager, First Coast Guard District.

[FR Doc. 06-3513 Filed 4-11-06; 8:45 am]

BILLING CODE 4910-15-P